SECURITIES AND EXCHANGE COMMISSION

[Release No. 34-96565; File No. SR-MRX-2022-27]

Self-Regulatory Organizations; Nasdaq MRX, LLC; Notice of Withdrawal of Proposed Rule Change To Amend Options 7, Section 7 To Add Market Data Fees

December 21, 2022.

On December 8, 2022, Nasdaq MRX, LLC (“MRX”) filed with the Securities and Exchange Commission (“Commission”), pursuant to Section 19(b)(1) of the Securities Exchange Act of 1934 ¹ and Rule 19b-4 thereunder,² a proposed rule change to assess market data fees.

¹ 15 U.S.C. 78s(b)(1).

² 17 CFR 240.19b-4.

On December 19, 2022, MRX withdrew the proposed rule change (SR-MRX-2022-27).

For the Commission, by the Division of Trading and Markets, pursuant to delegated authority.³
³ 17 CFR 200.30-3(a)(12).
Sherry R. Haywood,
Assistant Secretary.

[FR Doc. 2022-28202 Filed 12-27-22; 8:45 am]

BILLING CODE 8011-01-P